DEPARTMENT OF LABOR

Employment and Training Administration

[TA-W-63,713]

Canterbury Printing Company of Rome Incorporated, Rome, New York; Notice of Negative Determination on Reconsideration

On September 17, 2008, the Department issued an Affirmative Determination Regarding Application for Reconsideration for the workers and former workers of Canterbury Printing Company of Rome Incorporated, Rome, New York (subject firm). The Department's Notice of affirmative determination was published in the Federal Register on September 24, 2008 (73 FR 55137). Workers produce printed materials including postcards, calendars, and journals.

The Department's determination regarding the subject workers' eligibility to apply for Trade Adjustment Assistance (TAA) and Alternative Trade Adjustment Assistance (ATAA) was based on the Department's findings that, during the relevant period, there were no increased imports by the subject firm or its major declining customer or a shift of production by the subject firm to a foreign country.

In the request for administrative reconsideration, the Graphic Communications Conference of the International Brotherhood of Teamsters Union, Local 503-M, alleged that increased imports contributed to the closure of the subject firm.

In order to apply for TAA, petitioners must meet the worker group eligibility requirements for directly-impacted (primary) workers under Section 222(a) the Trade Act of 1974, as amended. The eligibility requirements can be met by satisfying either Section (a)(2)(A) or Section (a)(2)(B).

Under Section (a)(2)(A), the following criteria must be met:

A. A significant number or proportion of the workers in such workers' firm, or an appropriate subdivision of the firm, have become totally or partially separated, or are threatened to become totally or partially separated; and

B. The sales or production, or both, of such firm or subdivision have decreased absolutely; and

C. Increased imports of articles like or directly competitive with articles produced by such firm or subdivision have contributed importantly to such workers' separation or threat of separation and to the decline in sales or production of such firm or subdivision.

Under Section (a)(2)(B), the following criteria must be met:

A. A significant number or proportion of the workers in such workers' firm, or an appropriate subdivision of the firm, have become totally or partially separated, or are threatened to become totally or partially separated; and

B. There has been a shift in production by such workers' firm or subdivision to a foreign country of articles like or directly competitive with articles which are produced by such firm or subdivision; and

C. One of the following must be satisfied:

1. The country to which the workers' firm has shifted production of the articles is a party to a free trade agreement with the United States; or

2. The country to which the workers' firm has shifted production of the articles is a beneficiary country under the Andean Trade Preference Act, African Growth and Opportunity Act, or the Caribbean Basin Economic Recovery Act; or

3. There has been or is likely to be an increase in imports of articles that are like or directly competitive with articles which are or were produced by such firm or subdivision.

During the reconsideration investigation, the Department confirmed that the subject firm closed permanently in July 2008. Therefore, the Department affirms that the first two criteria of Section 222(a)(2)(A) have been met.

Based on the allegations in the request for reconsideration, the scope of the reconsideration investigation is limited to whether or not the third criteria in Section 222(a)(2)(A) has been met (increased imports of articles like or directly competitive with those produced by the subject firm contributed importantly to the workers' separation and to subject firm sales or production declines).

During the reconsideration investigation, the Department confirmed that the subject firm did not import printed material or articles like or directly competitive with printed material.

On reconsideration, the Department contacted the subject firm's major declining customer that was surveyed during the initial investigation, and confirmed that the customer did not import articles like or directly competitive with the printed material produced by the subject firm. The customer also stated that it ceased purchasing from the subject firm because it transferred to a Web-based publication. The move from the print medium to an electronic medium was due to the interactive nature of the electronic medium and the customer's advertisers' demands.

During the reconsideration investigation, the Department contacted a previously-unidentified customer of the subject firm and was informed that this customer did not award the subject firm the contract for printing its 2008 catalogue of products. Although the customer did consider awarding the contract to a Chinese company, the contract was awarded to a domestic company.

During the reconsideration investigation, the Department obtained information regarding the printing industry in general. The information indicates that the rise of the digital media—and the attending changes in technology (such as new equipment and computer programs), operating procedures (like “on demand” or “short run” printing), and customers' demands (including access to Internet links and “pop up” advertisements)—is the major factor in the decline in the printing industry. The fast-paced changes in this industry brought about by the ever-changing nature of the digital media, compounded by aging infrastructure and the higher postage costs, have contributed to the closure of companies unable to adapt to the changing environment.

Based on findings in the initial investigation and the reconsideration investigation, the Department determines that increased imports did not contribute importantly to the subject workers' separations and subject firm sales/production declines. Therefore, the Department affirms that Section 222(a)(2)(A)(C) has not been met.

In order for the Department to issue a certification of eligibility to apply for Alternative Trade Adjustment Assistance (ATAA), the subject worker group must be certified eligible to apply for Trade Adjustment Assistance (TAA). Since the subject workers are denied eligibility to apply for TAA, the workers cannot be certified eligible for ATAA.

Conclusion

After careful reconsideration, I affirm the original notice of negative determination of eligibility to apply for worker adjustment assistance for workers and former workers of Canterbury Printing Company of Rome Incorporated, Rome, New York.

Signed at Washington, DC this 27th day of October 2008.
Elliott S. Kushner,
Certifying Officer, Division of Trade Adjustment Assistance.

[FR Doc. E8-26537 Filed 11-6-08; 8:45 am]

BILLING CODE 4510-FN-P